DEPARTMENT OF ENERGY

Federal Energy Regulatory Commission

Combined Notice of Filings

Take notice that the Commission has received the following Natural Gas Pipeline Rate and Refund Report filings:

Filings Instituting Proceedings

Docket Numbers: RP18-514-000.

Applicants: UGI Mt. Bethel Pipeline Company, LLC.

Description: Annual Retainage Adjustment Filing of UGI Mt. Bethel Pipeline Company, LLC.

Filed Date: 2/28/18.

Accession Number: 20180228-5278.

Comments Due: 5 p.m. ET 4/5/18.

Docket Numbers: RP17-322-002.

Applicants: Golden Triangle Storage, Inc.

Description: Compliance filing Compliance Filing Pursuant to February 2018 Order in Docket No. RP17-322-001 to be effective 5/1/2018.

Filed Date: 3/28/18.

Accession Number: 20180328-5065.

Comments Due: 5 p.m. ET 4/9/18.

Docket Numbers: RP18-594-000.

Applicants: ANR Storage Company.

Description: § 4(d) Rate Filing: Seller's Use—Fuel Filing 2018 to be effective 5/1/2018.

Filed Date: 3/28/18.

Accession Number: 20180328-5063.

Comments Due: 5 p.m. ET 4/9/18.

Docket Numbers: RP18-595-000.

Applicants: Mississippi Canyon Gas Pipeline, L.L.C.

Description: § 4(d) Rate Filing: Mississippi Canyon Section-Based Baseline Tariff to be effective 5/1/2018.

Filed Date: 3/28/18.

Accession Number: 20180328-5077.

Comments Due: 5 p.m. ET 4/9/18.

Docket Numbers: RP18-596-000.

Applicants: Iroquois Gas Transmission System, L.P.

Description: § 4(d) Rate Filing: 032818 Negotiated Rates—Mercuria Energy America, Inc. R-7540-14 to be effective 4/1/2018.

Filed Date: 3/28/18.

Accession Number: 20180328-5087.

Comments Due: 5 p.m. ET 4/9/18.

Docket Numbers: RP18-597-000.

Applicants: Iroquois Gas Transmission System, L.P.

Description: § 4(d) Rate Filing: 032818 Negotiated Rates—Mercuria Energy America, Inc. R-7540-15 to be effective 4/1/2018.

Filed Date: 3/28/18.

Accession Number: 20180328-5088.

Comments Due: 5 p.m. ET 4/9/18.

Docket Numbers: RP18-598-000.

Applicants: Gulf Crossing Pipeline Company LLC.

Description: § 4(d) Rate Filing: Amendment to Neg Rate Agmt (Devon 10-18) to be effective 3/28/2018.

Filed Date: 3/28/18.

Accession Number: 20180328-5089.

Comments Due: 5 p.m. ET 4/9/18.

Docket Numbers: RP18-600-000.

Applicants: Garden Banks Gas Pipeline, LLC.

Description: § 4(d) Rate Filing: Garden Banks Section-Based Baseline Tariff to be effective 5/1/2018.

Filed Date: 3/28/18.

Accession Number: 20180328-5117.

Comments Due: 5 p.m. ET 4/9/18.

Docket Numbers: RP18-601-000.

Applicants: El Paso Natural Gas Company, L.L.C.

Description: § 4(d) Rate Filing: Negotiated Rate Agreement Update (Conoco Apr 18) to be effective 4/1/2018.

Filed Date: 3/28/18.

Accession Number: 20180328-5135.

Comments Due: 5 p.m. ET 4/9/18.

Docket Numbers: RP18-602-000.

Applicants: Wyoming Interstate Company, L.L.C.

Description: § 4(d) Rate Filing: Negotiated Rate Agreement (EOG April 2018) to be effective 4/1/2018.

Filed Date: 3/28/18.

Accession Number: 20180328-5149.

Comments Due: 5 p.m. ET 4/9/18.

Docket Numbers: RP18-603-000.

Applicants: Colorado Interstate Gas Company, L.L.C.

Description: § 4(d) Rate Filing: Non-Conforming Agreement Update Filing (Noble) to be effective 5/1/2018.

Filed Date: 3/28/18.

Accession Number: 20180328-5150.

Comments Due: 5 p.m. ET 4/9/18.

Docket Numbers: RP18-604-000.

Applicants: Mississippi Canyon Gas Pipeline, L.L.C.

Description: Tariff Cancellation: Mississippi Canyon Cancellation of Sheet-Based Tariff to be effective 5/1/2018.

Filed Date: 3/28/18.

Accession Number: 20180328-5151.

Comments Due: 5 p.m. ET 4/9/18.

Docket Numbers: RP18-606-000.

Applicants: Garden Banks Gas Pipeline, LLC.

Description: Tariff Cancellation: Garden Banks Cancellation of Sheet-Based Tariff to be effective 5/1/2018.

Filed Date: 3/28/18.

Accession Number: 20180328-5153.

Comments Due: 5 p.m. ET 4/9/18.

Docket Numbers: RP18-608-000.

Applicants: Texas Eastern Transmission, LP.

Description: § 4(d) Rate Filing: Negotiated Rates—Sequent contract 911362 eff 4-1-2018 to be effective 4/1/2018.

Filed Date: 3/28/18.

Accession Number: 20180328-5212.

Comments Due: 5 p.m. ET 4/9/18.

Docket Numbers: RP18-609-000.

Applicants: Texas Eastern Transmission, LP.

Description: § 4(d) Rate Filing: Negotiated Rates—Exelon 8950516 eff 4-1-2018 to be effective 4/1/2018.

Filed Date: 3/28/18.

Accession Number: 20180328-5218.

Comments Due: 5 p.m. ET 4/9/18.

Docket Numbers: RP18-610-000.

Applicants: Northern Border Pipeline Company.

Description: § 4(d) Rate Filing: Compressor Usage Surcharge 2018 to be effective 5/1/2018.

Filed Date: 3/28/18.

Accession Number: 20180328-5221.

Comments Due: 5 p.m. ET 4/9/18.

Docket Numbers: RP18-611-000.

Applicants: Texas Eastern Transmission, LP.

Description: § 4(d) Rate Filing: Negotiated Rates—EDF Contract 8950432 eff 4/1/2018 to be effective 4/1/2018.

Filed Date: 3/28/18.

Accession Number: 20180328-5222.

Comments Due: 5 p.m. ET 4/9/18.

Docket Numbers: RP18-612-000.

Applicants: Algonquin Gas Transmission, LLC.

Description: § 4(d) Rate Filing: Negotiated Rates—DTE contract 796213 to be effective 4/1/2018.

Filed Date: 3/28/18.

Accession Number: 20180328-5228.

Comments Due: 5 p.m. ET 4/9/18.

Docket Numbers: RP18-613-000.

Applicants: El Paso Natural Gas Company, L.L.C.

Description: § 4(d) Rate Filing: Update to Fuel Exemption Route Filing to be effective 4/27/2018.

Filed Date: 3/28/18.

Accession Number: 20180328-5231.

Comments Due: 5 p.m. ET 4/9/18.

Docket Numbers: RP18-614-000.

Applicants: Natural Gas Pipeline Company of America.

Description: § 4(d) Rate Filing: Negotiated Rate Filing-Castleton Commodities Merchant Trading to be effective 4/1/2018.

Filed Date: 3/29/18.

Accession Number: 20180329-5000.

Comments Due: 5 p.m. ET 4/10/18.

Docket Numbers: RP18-615-000.

Applicants: Equitrans, L.P.

Description: § 4(d) Rate Filing: Negotiated Rate Service Agreement—Mercuria LPS 4/1/2018 to be effective 4/1/2018.

Filed Date: 3/29/18.

Accession Number: 20180329-5005.

Comments Due: 5 p.m. ET 4/10/18.

Docket Numbers: RP18-616-000.

Applicants: Equitrans, L.P.

Description: § 4(d) Rate Filing: Negotiated Rate Service Agreement—Revised Peoples AVC FTS Agreement to be effective 4/1/2018.

Filed Date: 3/29/18.

Accession Number: 20180329-5006.

Comments Due: 5 p.m. ET 4/10/18.

Docket Numbers: RP18-617-000.

Applicants: Texas Gas Transmission, LLC.

Description: § 4(d) Rate Filing: Neg Rate Agmt Filing (KU 35799) to be effective 4/1/2018.

Filed Date: 3/29/18.

Accession Number: 20180329-5009.

Comments Due: 5 p.m. ET 4/10/18.

Docket Numbers: RP18-618-000.

Applicants: Gulf South Pipeline Company, LP.

Description: § 4(d) Rate Filing: Cap Rel Neg Rate Agmt (FPL 41618 to DTE 49073) to be effective 4/1/2018.

Filed Date: 3/29/18.

Accession Number: 20180329-5010.

Comments Due: 5 p.m. ET 4/10/18.

Docket Numbers: RP18-619-000.

Applicants: Gulf South Pipeline Company, LP.

Description: § 4(d) Rate Filing: Neg Rate Agmt and Amendment Filing (FPL 48381, 48381-1) to be effective 4/1/2018.

Filed Date: 3/29/18.

Accession Number: 20180329-5011.

Comments Due: 5 p.m. ET 4/10/18.

Docket Numbers: RP18-620-000.

Applicants: Gulf South Pipeline Company, LP.

Description: § 4(d) Rate Filing: Cap Rel Neg Rate Agmts (Atlanta 8438 to various eff 4/1/18) to be effective 4/1/2018.

Filed Date: 3/29/18.

Accession Number: 20180329-5012.

Comments Due: 5 p.m. ET 4/10/18.

Docket Numbers: RP18-622-000.

Applicants: Texas Gas Transmission, LLC.

Description: § 4(d) Rate Filing: Amendment to Neg Rate Agmt (TVA 35342) to be effective 4/1/2018.

Filed Date: 3/29/18.

Accession Number: 20180329-5016.

Comments Due: 5 p.m. ET 4/10/18.

Docket Numbers: RP18-623-000.

Applicants: Gulf Crossing Pipeline Company LLC.

Description: § 4(d) Rate Filing: Cap Rel Neg Rate Agmts (XTO 1846 to SW Energy 1954, 1955) to be effective 4/1/2018.

Filed Date: 3/29/18.

Accession Number: 20180329-5017.

Comments Due: 5 p.m. ET 4/10/18.

Docket Numbers: RP18-624-000.

Applicants: Gulf South Pipeline Company, LP.

Description: § 4(d) Rate Filing: Cap Rel Neg Rate Agmt (Atmos 45527 to CenterPoint 49258) to be effective 4/1/2018.

Filed Date: 3/29/18.

Accession Number: 20180329-5020.

Comments Due: 5 p.m. ET 4/10/18.

Docket Numbers: RP18-625-000.

Applicants: Texas Gas Transmission, LLC.

Description: § 4(d) Rate Filing: Cap Rel Neg Rate Agmt (BHP 31591 to Tenaska 37046) to be effective 4/1/2018.

Filed Date: 3/29/18.

Accession Number: 20180329-5021.

Comments Due: 5 p.m. ET 4/10/18.

Docket Numbers: RP18-626-000.

Applicants: Texas Eastern Transmission, LP.

Description: § 4(d) Rate Filing: Negotiated Rates—NJR 911491 eff 4/1/2018 to be effective 4/1/2018.

Filed Date: 3/29/18.

Accession Number: 20180329-5043.

Comments Due: 5 p.m. ET 4/10/18.

Docket Numbers: RP18-627-000.

Applicants: Golden Triangle Storage, Inc.

Description: § 4(d) Rate Filing: GTS Section 11 Tariff Filing to be effective 5/1/2018.

Filed Date: 3/29/18.

Accession Number: 20180329-5065.

Comments Due: 5 p.m. ET 4/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2018.
Nathaniel J. Davis, Sr.,
Deputy Secretary.

[FR Doc. 2018-06895 Filed 4-3-18; 8:45 am]

BILLING CODE 6717-01-P